PRESIDIO TRUST

Notice of Public Meeting

AGENCY: The Presidio Trust.

ACTION: Notice of public meeting.

SUMMARY: In accordance with 103(c)(6) of the Presidio Trust Act, 16 U.S.C. 460bb appendix, and in accordance with the Presidio Trust's bylaws, notice is hereby given that a public meeting of the Presidio Trust Board of Directors will be held commencing 6:30 p.m. on Tuesday, April 7, 2009, at the Herbst International Exhibition Hall, 385 Moraga Avenue, San Francisco, California. The Presidio Trust was created by Congress in 1996 to manage approximately eighty percent of the former U.S. Army base known as the Presidio, in San Francisco, California.

The purposes of this meeting are to provide an Executive Director's report, to receive public comment on the revised Draft Presidio Trust Management Plan Main Post Update and Draft Supplement to the Supplemental Environmental Impact Statement, and to receive public comment on other matters in accordance with the Presidio Trust's Public Outreach Policy.

Individuals requiring special accommodation at this meeting, such as needing a sign language interpreter, should contact Mollie Matull at 415.561.5300 prior to March 27, 2009.

DATES: The meeting will begin at 6:30 p.m. on Tuesday, April 7, 2009.

ADDRESSES: The meeting will be held at the Herbst International Exhibition Hall, 385 Moraga Avenue, San Francisco, California.

FOR FURTHER INFORMATION CONTACT: Karen Cook, General Counsel, the Presidio Trust, 34 Graham Street, P.O. Box 29052, San Francisco, California 94129-0052, Telephone: 415.561.5300.

Dated: March 5, 2009.
Karen A. Cook,
General Counsel.

[FR Doc. E9-5155 Filed 3-10-09; 8:45 am]

BILLING CODE 4310-4R-P